DEPARTMENT OF COMMERCE

[Docket No. 080306392-8393-01]

RIN 0648-ZB89

Postsecondary Internship Program (PIP); Extension of Award Period

AGENCY: Department of Commerce.

ACTION: Notice.

SUMMARY: The Department of Commerce (DOC) is publishing this notice to allow for the extension of the award period for an additional four-month period of funding, on a non-competitive basis, to awards of current Postsecondary Internship Program (PIP) recipients who will be completing the third year of partnership with DOC on May 31, 2008. The Federal Register notice (69 FR 68125, November 23, 2004) and Federal Funding Opportunity (FFO) announcement that solicited applications for the program established the total project award period for cooperative agreements under the Postsecondary Internship Program as three years and three months (March 1, 2005-May 31, 2008). This extension of time will permit DOC's Office of Human Resources Management (OHRM) to implement an overall program review, consider potential enhancements and revisions of the program scope, work requirements and performance measures for the PIP. It is OHRM's intent to assess the future direction of the program especially in outlining initiatives for successful and strategic management of human capital.

DATES: The award period and related funding, if approved by the DOC Grants Officer, will commence on June 1, 2008, and will continue through September 30, 2008.

FOR FURTHER INFORMATION CONTACT: Mr. Adam D. Santo, Project Manager, United States Department of Commerce, Office of Human Resources Management, Room 5204, 1400 Constitution Avenue, NW, Washington, DC 20230. Mr. Santo may be reached by telephone at (202) 482-4286 and by e-mail at asanto@doc.gov.

SUPPLEMENTARY INFORMATION: The Postsecondary Internship Program (PIP) was developed as one vehicle the DOC uses to promote participation of minorities in Federal programs as mandated by Executive Orders and statutes. Title 5, section 7201 of the U.S. Code requires that each Executive agency conduct a continuing program for the recruitment of members of minorities to address under representation of minorities in various categories of Federal employment. Executive Order 13256 provides for Executive departments to enter into, among other things, cooperative agreements with Historically Black Colleges and Universities (HBCUs) to further the goals of the Executive Order, principally that of strengthening the capacity of HBCUs to provide quality education, and to increase opportunities to participate in and benefit from Federal programs. Executive Order 13230 calls for Executive departments to develop plans to increase opportunities for Hispanic Americans to participate in and benefit from Federal education programs. Executive Order 13270 helps ensure that greater Federal resources are available to the tribal colleges. Executive Order 13216 directs Federal agencies to increase participation of Asian and Pacific Islanders in Federal programs.

In order to ensure that the Federal Government can maintain visibility and attractiveness to the “best and brightest” college students, this program supports partnerships between Federal departments and nonprofit or educational institutions. This program continues to improve opportunities for college students to prepare for their transition to the workplace and foster human resource diversity at DOC. In order to provide the program with the necessary time to review and develop its revised program for new awards, this notice amends DOC's prior Federal Register notice dated November 23, 2004 (69 FR 68125) to allow for an additional four-month period of funding, on a non-competitive basis, to current PIP recipients who will be completing the third year of partnership with DOC on May 31, 2008. The following recipients whose award period is scheduled to end on May 31, 2008, are affected by this notice and will be eligible for an additional four-month period of funding, on a non-competitive basis, through September 30, 2008: American Indian Science and Engineering Society, Hispanic Association of Colleges and Universities National Intern Program, Minority Access, Inc., Oak Ridge Associated Universities, and The Washington Center for Internships and Academic Seminars.

The award period and related funding, if approved by the DOC Grants Officer, will commence on June 1, 2008, and will continue through September 30, 2008. The additional period of funding will permit student participation in the PIP through the 2008 summer session of the program (June through August), which coincides with the academic year.

Funding for the additional period of time will be at the sole discretion of the DOC using the evaluation criteria and process used to determine the continuation of funding during the original award period (March 1, 2005-May 31, 2008). In making such determinations, the following factors will be considered: (1) Satisfactory performance by the recipients; (2) the availability of appropriated funds; and (3) DOC priorities that support the continuation of the project. DOC has no obligation to provide any additional future funding in connection with this award. Renewal of an award to increase funding or extend the period of performance is at the total discretion of DOC. The OHRM is currently reviewing the program to ensure it meets workforce planning needs. The additional period of funding, as announced in this notice, will allow OHRM the necessary time to review and develop its revised program so that a competition can be held for new awards, which will permit student participation in the PIP commencing with the fall session of 2008.

The Department of Commerce Pre-Award Notification Requirements for Grants and Cooperative Agreements

The Department of Commerce Pre-Award Notification Requirements for Grants and Cooperative Agreements contained in the Federal Register notice of February 11, 2008 (73 FR 7696) are applicable to this notice.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Authority: 5 U.S.C. 7201 and Executive Orders 13216, 13230, 13256, and 13270.

Dated: March 14, 2008.
Deborah A. Jefferson,
Director for Human Resources Management, Department of Commerce.

[FR Doc. E8-5660 Filed 3-19-08; 8:45 am]

BILLING CODE 3510-BS-S